DEPARTMENT OF LABOR

Employment and Training Administration

[TA-W-42,008]

Kraft Foods, Lifesavers Company, Including Leased Workers of Aerotek Automotive, Holland, MI; Amended Certification Regarding Eligibility To Apply for Worker Adjustment Assistance

In accordance with section 223 of the Trade Act of 1974 (19 U.S.C. 2273) the Department of Labor issued a Certification of Eligibility to Apply for Worker Adjustment Assistance on September 19, 2002, applicable to workers of Kraft Foods, Lifesavers Company, located in Holland, Michigan. The notice was published in the Federal Register on September 19, 2002 (67 FR 63159).

At the request of petitioners, the Department reviewed the certification for workers of the subject firm. The workers are engaged in employment related to the production of hard candy and mints. An official of Kraft Foods, Lifesavers Company, reports that leased workers of Aerotek Automotive, Kentwood, Michigan, were engaged in producing candy and mints at the Lifesavers Company plant in Holland, Michigan.

It is the Department's intent to include all workers of the firm affected by increased imports. Therefore, the Department is amending the certification to include workers of Aerotek Automotive producing hard candy and mints at Kraft Foods, Lifesavers Company, Holland, Michigan.

The amended notice applicable to TA-W-42,008 is hereby issued as follows:

All workers of Kraft Foods, Lifesavers Company, Holland, Michigan, and leased workers of Aerotek Automotive, producing hard candy and mints at Kraft Foods, Lifesavers Company, Holland, Michigan, who became totally or partially separated from employment on or after August 14, 2001, through September 19, 2004, are eligible to apply for adjustment assistance under section 223 of the Trade Act of 1974.

Signed in Washington, DC, this 25th day of April, 2003.
Linda G. Poole,
Certifying Officer, Division of Trade Adjustment Assistance.

[FR Doc. 03-11278 Filed 5-6-03; 8:45 am]

BILLING CODE 4510-30-P